DEPARTMENT OF DEFENSE

Office of the Secretary

[Docket ID: DoD-2023-HA-0116]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 22, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: TRICARE Inpatient Satisfaction Survey (TRISS); OMB Control Number: 0720-TRSS.

Needs and Uses: The DHA administers the TRICARE TRISS survey to understand perceptions of inpatient care among Military Health System (MHS) users. The survey instrument adheres to the methodological and analytical protocols and questionnaire items mandated by the industry standard Hospital Consumer Assessment of Healthcare Providers and Systems protocol. Developed by the Centers for Medicare and Medicaid Services and the Agency for Healthcare Research and Quality, the program provides valid and reliable self-reported experience ratings of inpatient experiences.

As a result, the TRISS program allows objective and meaningful comparisons between hospitals, in areas that are important to consumers. Results are published online, and the public can view them at https://www.medicare.gov/care-compare/. But perhaps most significantly, the comparative scores and findings can be used by MHS leadership to improve care as well as by beneficiaries to make informed choices. TRISS is designed to provide actionable performance feedback to improve overall quality of health care. The main goals of the TRISS are to:

• Provide comparable data on the patient's perspective on care that allows objective and meaningful comparisons between hospitals on domains that are important to beneficiaries.

• Establish a uniform measure of user satisfaction with received healthcare services.

• Public reporting of the survey results is designed to create incentives for Military Treatment Facilities (MTFs) to improve their quality of care.

The study population consists of military personnel, their family members, and eligible retirees and their family members with a recent overnight hospitalization. The survey is administered to patients after a recent discharge from either a MTF or a civilian hospital to gather information about their experience of the care they received. Data are reported quarterly to track trends over time.

Affected Public: Individuals or households.

Annual Burden Hours: 12,720.

Number of Respondents: 63,600.

Responses per Respondent: 1.

Annual Responses: 63,600.

Average Burden per Response: 12 minutes.

Frequency: On occasion.

Dated: November 14, 2023.
Aaron T. Siegel,
Alternate OSD Federal Register Liaison Officer, Department of Defense.

[FR Doc. 2023-25811 Filed 11-21-23; 8:45 am]

BILLING CODE 6001-FR-P